DEPARTMENT OF COMMERCE

National Oceanic and Atmospheric Administration

[RTID 0648-XG233]

Management Track Assessment for Atlantic Herring, Butterfish, Atlantic Surf Clam, and Longfin Inshore Squid Public Meeting

AGENCY: National Marine Fisheries Service (NMFS), National Oceanic and Atmospheric Administration (NOAA), Commerce.

ACTION: Notice of public meeting.

SUMMARY: NMFS and the Assessment Oversight Panel will convene the Management Track Assessment Peer Review Meeting for the purpose of reviewing Atlantic Herring, Butterfish, Atlantic Surf Clam, and Longfin Inshore Squid. The Management Track Assessment Peer Review is a formal scientific peer-review process for evaluating and presenting stock assessment results to managers for fish stocks in the offshore U.S. waters of the northwest Atlantic. Assessments are prepared by Stock Assessment Workshop (SAW) working groups and reviewed by an independent panel of stock assessment experts called the Assessment Oversight Panel (AOP). The public is invited to attend the presentations and discussions between the review panel and the scientists who have participated in the stock assessment process.

DATES: The public portion of the Management Track Assessment Peer Review Meeting will be held from June 22, 2020-June 25, 2020. The meeting will commence on June 25, 2020 at 5 p.m. Eastern Standard Time. Please see SUPPLEMENTARY INFORMATION for the daily meeting agenda.

ADDRESSES: The meeting will be held via Google Meet (https://meet.google.com/rcy-uvyg-dtd).

FOR FURTHER INFORMATION CONTACT: Michele Traver, 508-495-2195; email: michele.traver@noaa.gov.

SUPPLEMENTARY INFORMATION: For further information, please visit the NEFSC website at https://www.fisheries.noaa.gov/region/new-england-mid-atlantic. For additional information about the AOP meeting and the stock assessment peer review, please visit the NMFS/NEFSC SAW web page at https://www.fisheries.noaa.gov/new-england-mid-atlantic/population-assessments/northeast-region-stock-assessment-process.

Daily Meeting Agenda—Management Track Peer Review Meeting (Subject To Change; All Times Are Approximate and May Be Changed at the Discretion of the Peer Review Chair)

Monday, June 22, 2020
Time | Activity | Lead
10 a.m.-10:15 a.m | Welcome/Logistics; Introductions/Process | Russ Brown/Michele Traver.
10:15 a.m.-12:15 p.m | Atlantic Herring | Jon Deroba.
12:15 p.m.-1:15 p.m | Lunch
1:15 p.m.-1:45 p.m | Review/Discussion/Summary | Review Panel.
1:45 p.m.-3:15 p.m | Butterfish | Charles Adams.
3:15 p.m.-3:30 p.m | Break
3:30 p.m.-4 p.m | Review/Discussion/Summary | Review Panel.
4 p.m.-4:15 p.m | Public Comment | Public.
4:15 p.m | Adjourn

Tuesday, June 23, 2020
Time | Activity | Lead
9 a.m.-9:15 a.m | Brief Overview and Logistics | Michele Traver/Mike Wilberg (Chair).
9:15 a.m.-10:45 a.m | Atlantic Surf Clam | Dan Hennen.
10:45 a.m.-11 a.m | Break
11 a.m.-12 p.m | Atlantic Surf Clam cont. | Dan Hennen.
12 p.m.-1 p.m | Lunch
1 p.m.-1:30 p.m | Review/Discussion/Summary | Review Panel.
1:30 p.m.-3 p.m | Longfin Inshore Squid (Doryteuthis) | Lisa Hendrickson.
3 p.m.-3:15 p.m | Break
3:15 p.m.-4 p.m | Longfin Inshore Squid (Doryteuthis) cont. | Lisa Hendrickson.
4 p.m.-4:30 p.m | Review/Discussion/Summary | Review Panel.
4:30 p.m.-4:45 p.m | Public Comment | Public.
4:45 p.m | Adjourn

Wednesday, June 24, 2020
Time | Activity | Lead
9 a.m.-9:15 a.m | Brief Overview and logistics | Michele Traver/Mike Wilberg (Chair).
9:15 a.m.-10:15 a.m | Meeting Wrap Up/Discussion of Key Topics | Review Panel.
10:15 a.m.-10:30 a.m | Public Comment | Public.
10:30 a.m.-10:45 a.m | Break
10:45 a.m.-12 p.m | Report Writing | Review Panel.
12 p.m.-1 p.m | Lunch
1:05 p.m.-5 p.m | Report Writing | Review Panel.
5 p.m | Adjourn

Thursday, June 25, 2020
Time | Activity | Lead
9 a.m.-5 p.m | Report Writing | Review Panel.

The meeting is open to the public; however, during the `Report Writing' session on Wednesday, June 23rd, and Thursday, June 24th, the public should not engage in discussion with the Peer Review Panel.

Special Accommodations

This meeting is physically accessible to people with disabilities. Special requests should be directed to Michele Traver, 508-495-2195, at least 5 days prior to the meeting date.

Dated: June 12, 2020.
Hélène M.N. Scalliet,
Acting Director, Office of Sustainable Fisheries, National Marine Fisheries Service.

[FR Doc. 2020-13076 Filed 6-16-20; 8:45 am]

BILLING CODE 3510-22-P